DEPARTMENT OF COMMERCE

Foreign-Trade Zones Board

[Order No. 1074]

Expansion of Foreign-Trade Zone 143, Sacramento, California

Pursuant to its authority under the Foreign-Trade Zones Act of June 18, 1934, as amended (19 U.S.C. 81a-81u), the Foreign-Trade Zones Board (the Board) adopts the following Order:

Whereas, Sacramento-Yolo Port District, grantee of Foreign-Trade Zone 143, submitted an application to the Board for authority to expand FTZ 143 to include a new site, located at the Chico Municipal Airport, in Chico, California, some 90 miles north of the San Francisco Consolidated Customs port of entry limits (FTZ Docket 37-99; filed July 16, 1999);

Whereas, Section 2422 of the Miscellaneous Trade and Technical Corrections Act of 1999 (Pub.L. 106-36) directs the Foreign-Trade Zones Board to approve the expansion of FTZ 143 to include the proposed site in Chico, California;

Whereas, notice inviting public comment was given in the Federal Register (64 FR 41374, July 30, 1999) and the application has been processed pursuant to the FTZ Act and the Board's regulations; and,

Whereas, the Board adopts the findings and recommendations of the examiner's report, and finds that the requirements of the FTZ Act and the Board's regulations are satisfied;

Now, therefore, the Board hereby orders:

The application to expand FTZ 143 is approved, subject to the Act and the Board's regulations, including § 400.28 and further subject to the Board's standard 2,000 acre activation limit.

Signed at Washington, DC, this 18th day of January, 2000.
Robert S. LaRussa,
Assistant Secretary of Commerce for Import Administration, Alternate Chairman, Foreign-Trade Zones Board.
Attest:
Dennis Puccinelli,
Acting Executive Secretary.

[FR Doc. 00-2589 Filed 2-3-00; 8:45 am]

BILLING CODE 3510-DS-P